ENVIRONMENTAL PROTECTION AGENCY

EPA-HQ-OARM-2011-0803, EPA-HQ-OARM-2-11-0804; FRL-9484-8]

Agency Information Collection Activities; Proposed Collection; Comment Request; Background Checks for Contractor Employees (Renewal) and Drug Testing for Contract Employees (Renewal)

AGENCY: Environmental Protection Agency (EPA).

ACTION: Notice.

SUMMARY: In compliance with the Paperwork Reduction Act (PRA) (44 U.S.C. 3501 et seq.), this document announces that EPA is planning to submit a request to renew two existing approved Information Collection Requests (ICR) to the Office of Management and Budget (OMB). These ICRs are scheduled to expire as follows: EPA ICR No. 2159.03 on April 30, 2012, and EPA ICR No. 2183.05 on June 30, 2012. Before submitting the ICR to OMB for review and approval, EPA is soliciting comments on specific aspects of the proposed information collection as described below.

DATES: Comments must be submitted on or before December 30, 2011.

ADDRESSES: Submit your comments, identified by Docket ID Numbers provided for each item in the text, by one of the following methods:

• http://www.regulations.gov: Follow the on-line instructions for submitting comments.

• Email: ramrakha.staci@epa.gov.

• Mail: OEI Docket, Environmental Protection Agency, Mailcode: 2822T, 1200 Pennsylvania Ave., NW., Washington, DC 20460. Please include a total of three (3) copies and identify one of following Docket ID Numbers:

(1) Docket ID: EPA-HQ-OARM-2011-0803, Background Checks for Contractor Employees.

(2) Docket ID: EPA-HQ-OARM-2-11-0804, Drug Testing for Contractor Employees.

• Hand Delivery: EPA Docket Center-Attention OEI Docket, EPA West, Room B102, 1301 Constitution Ave., NW., Washington DC 20004. Such deliveries are only accepted during the Docket's normal hours of operation, and special arrangements should be made for deliveries of boxed information.

Instructions: Direct your comments identified by the Docket ID numbers provided for each item in the text. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Staci Ramrakha, Policy Training and Oversight Division, Office of Acquisition Management (3802R), Environmental Protection Agency, 1200 Pennsylvania Ave., NW., Washington, DC 20460; telephone number: (202) 564-2017; email address: ramrakha.staci@epa.gov.

SUPPLEMENTARY INFORMATION:

How can I access the docket and/or submit comments?

EPA has established a public docket for each of the ICRs identified in this document (see the Docket ID numbers for each ICR that are provided in the text), which is available for online viewing at http://www.regulations.gov, or in person viewing at the OEI Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the OEI Docket is (202) 566-1752.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Individual ICRs

(1) Docket ID: EPA-HQ-OARM-2011-0803, Background Checks for Contractor Employees;

(2) Docket ID: EPA-HQ-OARM-2-11-0804, Drug Testing for Contractor Employees.

Affected entities: Entities potentially affected by these two ICRs are contractors performing work at sensitive sites or on sensitive projects, and not covered under the provisions of Homeland Security Presidential Directive-2. Specifically, all contractors involved with Emergency Response, Superfund, Information systems, Facility Services, and Research Support that have significant security concerns, as determined by the contracting officer, on a case-by-case basis, will be required to provide qualified personnel that meet the background check and drug testing requirements developed by EPA.

Titles: (1) Background Checks for Contractor Employees (Renewal); (2) Drug Testing for Contractor Employees

ICR numbers: (1) Background checks for Contractor Employees EPA-HQ-OARM-2011-0803, OMB Control No. 2030-0043; (2) Drug Testing for Contractor Employees EPA ICR No. 2183.05, OMB Control No. 2030-0044.

ICR status: (1) EPA-HQ-OARM-2011-0803 is scheduled to expire on April 30, 2012. (2) EPA ICR No. 2183.05 is scheduled to expire on June 30. 2012.

Abstract: (1) Background checks cover citizenship or valid visa, criminal convictions, weapons offenses, felony convictions, and parties prohibited from receiving federal contracts. (2) Drug tests are for the presence of marijuana, cocaine, opiates, amphetamines and phencyclidine (PCP). Contractors shall maintain records of all background checks and drug tests.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information. The individual ICRs provide a detailed explanation of the Agency's estimate, which are briefly summarized below.

(1) The number of contractor employees expected to submit the requested information for EPA-HQ-OARM-2011-0803, Background Checks, is 3,000 for the life of the ICR (3 years), which equates to 1,000 per year. The estimated effort for contractors to collect information for each background check is one hour, or 1,000 hours per year. The estimated annual respondent cost for performing background check collection requests is $83,450. This is calculated by multiplying the number of annual occurrences, 1,000, by the estimated respondent cost of $83.45 per collection, which includes time to fill out the information, the cost of the background check, reviewing/applying suitability criteria, submitting a notification to the EPA and maintaining files. Using an annual escalation rate of 2.5%, this equates to a total respondent cost of $256,670 over the three year life of this ICR. In addition to the respondent burden, there is also an agency burden for ensuring contractor compliance, documenting contractors' notifications and issuing waivers. This is estimated to be .5 hours for each collection (1,000 per year) and .25 hours for each waiver request (250 per year) for a total of 562.5 hours per year and a cost of $53,133.75 per year. This equates to a total agency cost of $159,401.25 over the three year life of this ICR.

(2) The number of contractor employees expected to submit the requested information for EPA ICR No. 2183.05, Drug Testing, is 1,350 for the life of this ICR (3 years) which equates to 450 per year. The estimated effort for contractors to collect information for each drug test is one hour, for a total of 450 hours per year. The estimated annual respondent cost for performing drug tests is $72,450. This is calculated by multiplying the number of annual occurrences, 450, by the estimated respondent cost of $161.00 per test, which includes time to provide the sample, the cost of the drug test, reviewing results, submitting notification to the EPA and maintaining files. Using an annual escalation rate of 2.5%, this equates to a total respondent cost of $495,000. In addition to the respondent burden, there is also an agency burden for ensuring contractor compliance. This is estimated to be .25 hours per occurrence for a total of 112.5 hours per year (450 drug tests per year multiplied by .25) and an annual cost of $10,626.75. This equates to a total agency cost of $31,880.25 over the three year life of this ICR.

Are there changes in the estimates from the last approval?

EPA estimates that the hourly burden for both collections will remain the same as reported in the previous information collections because there has been no change in the information being collected and approximately the same number of contracts remain active.

What is the next step in the process for this ICR?

EPA will consider the comments received and amend the ICRs as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: October 19, 2011.
John R. Bashista,
Director, Office of Acquisition Management.

[FR Doc. 2011-28077 Filed 10-28-11; 8:45 am]

BILLING CODE 6560-50-P